OFFICE OF THE UNITED STATES TRADE REPRESENTATIVE

Procurement Thresholds for Implementation of the Trade Agreements Act of 1979

AGENCY: Office of the United States Trade Representative.

ACTION: Notice.

SUMMARY: The U.S. Trade Representative has determined the U.S. dollar procurement thresholds to implement certain U.S. trade agreement obligations, as of January 1, 2020, for calendar years 2020 and 2021.

DATES: This notice is applicable on January 1, 2020, for calendar years 2020 and 2021.

FOR FURTHER INFORMATION CONTACT: Kate Psillos, Director of International Procurement Policy at (202) 395-9581 or Kathryn.W.Psillos@ustr.eop.gov.

SUPPLEMENTARY INFORMATION: Executive Order 12260 (E.O.) requires the U.S. Trade Representative to set the U.S. dollar thresholds for application of Title III of the Trade Agreements Act of 1979, as amended (19 U.S.C. 2511 et seq.). These obligations apply to covered procurements valued at or above specified U.S. dollar thresholds. In conformity with the provisions of the E.O., and in order to carry out U.S. trade agreement obligations, the U.S. Trade Representative has determined the U.S. dollar procurement thresholds, effective on January 1, 2020, for calendar years 2020 and 2021 as follows:

I. World Trade Organization (WTO) Agreement on Government Procurement

A. Central Government Entities listed in U.S. Annex 1:

(1) Procurement of goods and services—$182,000; and

(2) Procurement of construction services—$7,008,000.

B. Sub-Central Government Entities listed in U.S. Annex 2:

(1) Procurement of goods and services—$498,000; and

(2) Procurement of construction services—$7,008,000.

C. Other Entities listed in U.S. Annex 3:

(1) Procurement of goods and services—$561,000; and

(2) Procurement of construction services—$7,008,000.

II. Chapter 15 of the United States-Australia Free Trade Agreement

A. Central Government Entities listed in the U.S. Schedule to Annex 15-A, Section 1:

(1) Procurement of goods and services—$83,099; and

(2) Procurement of construction services—$7,008,000.

B. Sub-Central Government Entities listed in the U.S. Schedule to Annex 15-A, Section 2:

(1) Procurement of goods and services—$498,000; and

(2) Procurement of construction services—$7,008,000.

C. Other Entities listed in the U.S. Schedule to Annex 15-A, Section 3:

(1) Procurement of goods and services for List A Entities— $415,495;

(2) Procurement of goods and services for List B Entities— $561,000;

(3) Procurement of construction services—$7,008,000.

III. Chapter 9 of the United States-Bahrain Free Trade Agreement

A. Central Government Entities listed in the U.S. Schedule to Annex 9-A-1:

(1) Procurement of goods and services—$182,000; and

(2) Procurement of construction services—$10,802,884.

B. Other Entities listed in the U.S. Schedule to Annex 9-A-2:

(1) Procurement of goods and services for List B entities—$561,000; and

(2) Procurement of construction services—$13,296,478.

IV. Chapter 9 of the United States-Chile Free Trade Agreement

A. Central Government Entities listed in the U.S. Schedule to Annex 9.1, Section A:

(1) Procurement of goods and services—$83,099; and

(2) Procurement of construction services—$7,008,000.

B. Sub-Central Government Entities listed in the U.S. Schedule to Annex 9.1, Section B:

(1) Procurement of goods and services—$498,000; and

(2) Procurement of construction services—$7,008,000.

C. Other Entities listed in the U.S. Schedule to Annex 9.1, Section C:

(1) Procurement of goods and services for List A Entities— $415,495;

(2) Procurement of goods and services for List B Entities— $561,000;

(3) Procurement of construction services—$7,008,000.

V. Chapter 9 of the United States-Colombia Trade Promotion Agreement

A. Central Government Entities listed in the U.S. Schedule to Annex 9.1, Section A:

(1) Procurement of goods and services—$83,099; and

(2) Procurement of construction services—$7,008,000.

B. Sub-Central Government Entities listed in the U.S. Schedule to Annex 9.1, Section B:

(1) Procurement of goods and services—$498,000; and

(2) Procurement of construction services—$7,008,000.

C. Other Entities listed in the U.S. Schedule to Annex 9.1, Section C:

(1) Procurement of goods and services for List B Entities— $561,000;

(2) Procurement of construction services—$7,008,000.

VI. Chapter 9 of the Dominican Republic-Central American-United States Free Trade Agreement

A. Central Government Entities listed in the U.S. Schedule to Annex 9.1.2(b)(i), Section A:

(1) Procurement of goods and services—$83,099; and

(2) Procurement of construction services—$7,008,000.

B. Sub-Central Government Entities listed in the U.S. Schedule to Annex 9.1.2(b)(i), Section B:

(1) Procurement of goods and services—$498,000; and

(2) Procurement of construction services—$7,008,000.

C. Other Entities listed in the U.S. Schedule to Annex 9.1.2(b)(i), Section C:

(1) Procurement of goods and services for List B Entities— $561,000;

(2) Procurement of construction services—$7,008,000.

VII. Chapter 17 of the United States-Korea Free Trade Agreement

A. Central Government Entities listed in the U.S. Schedule to Annex 17-A, Section A:

(1) Procurement of construction services—$7,008,000.

VIII. Chapter 9 of the United States-Morocco Free Trade Agreement

A. Central Government Entities listed in the U.S. Schedule to Annex 9-A-1:

(1) Procurement of goods and services—$182,000; and

(2) Procurement of construction services—$7,008,000.

B. Sub-Central Government Entities listed in the U.S. Schedule to Annex 9-A-2:

(1) Procurement of goods and services—$498,000; and

(2) Procurement of construction services—$7,008,000.

C. Other Entities listed in the U.S. Schedule to Annex 9-A-3:

(1) Procurement of goods and services for List B Entities— $561,000;

(2) Procurement of construction services—$7,008,000.

IX. Chapter 10 of the North American Free Trade Agreement

A. Federal Government Entities listed in the U.S. Schedule to Annex 1001.1a-1:

(1) Procurement of goods and services—$83,099; and

(2) Procurement of construction services—$10,802,884.

B. Government Enterprises listed in the U.S. Schedule to Annex 1001.1a-2:

(1) Procurement of goods and services—$415,495; and

(2) Procurement of construction services—$13,296,479.

X. Chapter 9 of the United States-Oman Free Trade Agreement

A. Central Level Government Entities listed in the U.S. Schedule to Annex 9, Section A:

(1) Procurement of goods and services—$182,000; and

(2) Procurement of construction services—$10,802,884.

B. Other Covered Entities listed in the U.S. Schedule to Annex 9, Section B:

(1) Procurement of goods and services for List B Entities— $561,000;

(2) Procurement of construction services—$13,296,478.

XI. Chapter 9 of the United States-Panama Trade Promotion Agreement

A. Central Government Entities listed in the U.S. Schedule to Annex 9.1, Section A:

(1) Procurement of goods and services—$182,000; and

(2) Procurement of construction services—$7,008,000.

B. Sub-Central Government Entities listed in the U.S. Schedule to Annex 9.1, Section B:

(1) Procurement of goods and services—$498,000; and

(2) Procurement of construction services—$7,008,000.

C. Other Entities listed in the U.S. Schedule to Annex 9.1, Section C:

(1) Procurement of goods and services for List B Entities— $561,000;

(2) Procurement of construction services—$7,008,000.

D. Autoridad del Canal de Panamá

(1) Procurement of goods and services—$561,000.

XII. Chapter 9 of the United States-Peru Trade Promotion Agreement

A. Central Government Entities listed in the U.S. Schedule to Annex 9.1, Section A:

(1) Procurement of goods and services—$182,000; and

(2) Procurement of construction services—$7,008,000.

B. Sub-Central Government Entities listed in the U.S. Schedule to Annex 9.1, Section B:

(1) Procurement of goods and services—$498,000; and

(2) Procurement of construction services—$7,008,000.

C. Other Entities listed in the U.S. Schedule to Annex 9.1, Section C:

(1) Procurement of goods and services for List B Entities— $561,000;

(2) Procurement of construction services—$7,008,000.

XIII. Chapter 13 of the United States-Singapore Free Trade Agreement

A. Central Government Entities listed in the U.S. Schedule to Annex 13A, Schedule 1, Section A:

(1) Procurement of goods and services—$83,099; and

(2) Procurement of construction services—$7,008,000.

B. Sub-Central Government Entities listed in the U.S. Schedule to Annex 13A, Schedule 1, Section B:

(1) Procurement of goods and services—$498,000; and

(2) Procurement of construction services—$7,008,000.

C. Other Entities listed in the U.S. Schedule to Annex 13A, Schedule 1, Section C:

(1) Procurement of goods and services—$561,000;

(2) Procurement of construction services—$7,008,000.

Jamieson Greer,
Chief of Staff, Office of the United States Trade Representative.

[FR Doc. 2019-27647 Filed 12-20-19; 8:45 am]

BILLING CODE 3290-F0-P